DEPARTMENT OF ENERGY

Federal Energy Regulatory Commission

[Project No. 2514-209]

Appalachian Power Company; Notice of Application Tendered for Filing With the Commission and Establishing Procedural Schedule for Licensing and Deadline for Submission of Final Amendments

Take notice that the following hydroelectric application has been filed with the Commission and is available for public inspection.

a. Type of Application: New Major License.

b. Project No.: 2514-209.

c. Date Filed: February 28, 2022.

d. Applicant: Appalachian Power Company (Appalachian).

e. Name of Project: Byllesby-Buck Hydroelectric Project (Byllesby-Buck Project).

f. Location: The two-development Byllesby-Buck Project is located on the New River in Carroll County, Virginia. The project occupies 7.23 acres of federal land managed by the U.S. Forest Service.

g. Filed Pursuant to: Federal Power Act, 16 U.S.C. 791(a)-825(r).

h. Applicant Contact: Elizabeth Parcell, Process Supervisor, American Electric Power Service Corporation, 40 Franklin Road SW, Roanoke, VA 24011; Phone at (540) 985-2441 or email at ebparcell@aep.com.

i. FERC Contact: Jody Callihan at (202) 502-8278, or jody.callihan@ferc.gov.

j. This application is not ready for environmental analysis at this time.

k. The Byllesby-Buck Project consists of two developments (Byllesby and Buck); the Byllesby Development is located 3 river miles upstream of the Buck Development. The current license authorizes a combined generating capacity of 30.1 megawatts (MW); however, the actual installed capacity is 26.1 MW, which Appalachian proposes to increase to 29.8 MW, as described below.

Between 2016 and 2020, the project had an average annual generation of 92,820 megawatt-hours (MWh).

The Byllesby Development consists of: (1) A 64-foot-high, 528-foot-long concrete dam, sluice gate, and main spillway section topped with four sections of 9-foot-high flashboards, five sections of 9-foot-high inflatable Obermeyer crest gates, and six bays of 10-foot-high Tainter gates; (2) an auxiliary spillway including six sections of 9-foot-high flashboards; (3) a 239-acre impoundment with a gross storage capacity of 2,000 acre-feet; (4) a powerhouse containing four turbine-generator units with a total installed capacity of 18.0 MW; (5) a control house and switchyard; and (6) appurtenant facilities.

The Buck Development consists of: (1) A 42-foot-high, 353-foot-long concrete dam and sluice gate; (2) a 1,005-foot-long, 19-foot-high spillway section topped with twenty sections of 9-foot-high flashboards, four sections of 9-foot-high inflatable crest gates, and six bays of 10-foot-high Tainter gates; (3) a 66-acre impoundment with a gross storage capacity of 661 acre-feet; (4) a powerhouse containing three turbine-generator units with a total installed capacity of 8.1 MW; (5) two 2-mile-long overhead 13.2-kilovolt transmission lines extending from the Buck powerhouse to the Byllesby control house; and (6) appurtenant facilities.

The Byllesby-Buck Project is currently operated in a run-of-river (ROR) mode, with the Byllesby impoundment maintained between elevations of 2,078.2 feet and 2,079.2 feet National Geodetic Vertical Datum of 1929 (NGVD 29) and the Buck impoundment maintained between elevations of 2,002.4 feet and 2,003.4 feet NGVD 29. A minimum flow of 360 cubic feet per second (cfs), or project inflow if less, is provided downstream of each powerhouse. Article 406 of the current license requires that following periods of spill when a spillway gate has been opened 2 feet of more, spill flows (into the Buck bypassed reach) must be released through a 2-foot gate opening for at least 3 hours, then the gate opening must be reduced to 1 foot for at least an additional 3 hours prior to closing the gate.

Appalachian proposes to continue operating the project in a ROR mode and providing a 360-cfs minimum flow at each development. However, Appalachian proposes to modify the existing ramping rate requirement at the Buck Development such that, following periods of spill when a spillway gate has been opened 2 feet or more, water would be released (into the Buck bypassed reach) through a 2-foot gate opening for at least 2 hours, then the gate opening would be reduced to 1 foot for 2 hours, and finally to 0.5 foot for 2 hours before closing the gate. In addition to this measure, which is intended to minimize walleye stranding in the Buck bypassed reach, Appalachian proposes environmental measures for the protection and enhancement of other aquatic resources as well as terrestrial, recreation, and cultural resources.

Appalachian also proposes to upgrade three (of the four) turbine-generator units at the Byllesby Development and two (of the three) turbine-generator units at the Buck Development. The proposed upgrades are expected to increase the total installed capacity from 26.1 MW to 29.8 MW and the project's average annual generation by 25,927 MWh. In addition, Appalachian proposes to add to the current project boundary: (1) The Byllesby control house and switchyard and (2) two 2-mile-long overhead 13.2-kilovolt transmission lines that extend from the Buck powerhouse to the Byllesby control house.

l. A copy of the application can be viewed on the Commission's website at http://www.ferc.gov, using the “eLibrary” link. Enter the docket number, excluding the last three digits in the docket number field, to access the document (P-2514). For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | March 2022.
Request Additional Information (if necessary) | May 2022.
Notice of Acceptance/Notice of Ready for Environmental Analysis | August 2022.

o. Final amendments to the application must be filed with the Commission no later than 30 days from the issuance date of the notice of ready for environmental analysis.

Dated: March 8, 2022.
Kimberly D. Bose,
Secretary.

[FR Doc. 2022-05311 Filed 3-11-22; 8:45 am]

BILLING CODE 6717-01-P